Title 3—

The President

Proclamation 7513 of December 9, 2001

Human Rights Day, Bill of Rights Day, and Human Rights Week, 2001

By the President of the United States of America

A Proclamation

The terrible tragedies of September 11 served as a grievous reminder that the enemies of freedom do not respect or value individual human rights. Their brutal attacks were an attack on these very rights. When our essential rights are attacked, they must and will be defended.

Americans stand united with those who love democracy, justice, and individual liberty. We are committed to upholding these principles, embodied in our Constitution's Bill of Rights, that have safeguarded us throughout our history and that continue to provide the foundation of our strength and prosperity.

The heinous acts of terrorism committed on September 11 were an attack against civilization itself, and they have caused the world to join together in a coalition that is now waging war on terrorism and defending international human rights. Americans have looked beyond our borders and found encouragement as the world has rallied to join the American-led coalition. Civilized people everywhere have recognized that terrorists threaten every nation that loves liberty and cherishes the protection of individual rights.

Respect for human dignity and individual freedoms reaffirms a core tenet of civilized people everywhere. This important observance honoring our Bill of Rights and advocating human rights around the world allows all Americans to celebrate the universal principles of liberty and justice that define our dreams and shape our hopes as we face the challenges of a new era.

NOW, THEREFORE, I, GEORGE W. BUSH, President of the United States of America, by virtue of the authority vested in me by the Constitution and laws of the United States, do hereby proclaim December 10, 2001, as Human Rights Day; December 15, 2001, as Bill of Rights Day; and the week beginning December 9, 2001, as Human Rights Week. I call upon the people of the United States to honor the legacy of human rights passed down to us from previous generations and to resolve that such liberties will prevail in our Nation and throughout the world as we move into the 21st century.

IN WITNESS WHEREOF, I have hereunto set my hand this ninth day of December, in the year of our Lord two thousand one, and of the Independence of the United States of America the two hundred and twenty-sixth.

B

[FR Doc. 01-30834

Filed 12-11-01; 8:45 am]

Billing code 3195-01-P